POSTAL SERVICE

Product Change-Priority Mail, and USPS Ground Advantage Negotiated Service Agreements & Priority Mail, USPS Ground Advantage, and Parcel Select Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: March 4, 2026.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with postal regulatory commission | Negotiated service agreement product category and No. | MC Docket No. | K Docket No.
02/23/26 | PM-GA 939 | MC2026-165 | K2026-165
02/27/26 | PM-GA-PS 9 | MC2026-166 | K2026-166

Documents are available at www.prc.gov.

Sean C. Robinson,
Attorney, Corporate and Postal Business Law.

[FR Doc. 2026-04220 Filed 3-3-26; 8:45 am]

BILLING CODE 7710-12-P